DEPARTMENT OF COMMERCE

[I.D. 050103B]

Endangered and Threatened Species; Take of Anadromous Fish

AGENCY: National Marine Fisheries Service (NMFS), National Oceanic and Atmospheric Administration (NOAA), Commerce.

ACTION: Notice of availability and request for comment.

SUMMARY: Notice is hereby given that NMFS has prepared a draft environmental assessment (EA) of the potential effects of approval of 10 Hatchery and Genetic Management Plans (HGMPs) submitted by the United States Fish and Wildlife Service (USFWS) for artificial propagation of salmon and steelhead in the Columbia River basin. The HGMPs specify the future management of hatchery programs that potentially could affect salmon and steelhead listed under the Endangered Species Act. This document serves to notify the public of the availability of the draft EA for public comment before a final decision on whether to issue a Finding of No Significant Impact is made by NMFS.

DATES: Written comments on the draft EA must be received no later than 5 p.m. Pacific daylight time on June 11, 2003.

ADDRESSES: Written comments and requests for copies of the draft EA should be addressed to Richard Turner, Salmon Recovery Division, 525 N.E. Oregon Street, Suite 510, Portland, OR 97232 or faxed to (503) 872-2737. The documents are also available on the Internet at http://www.nwr.noaa.gov/. Comments will not be accepted if submitted via e-mail or the Internet.

FOR FURTHER INFORMATION CONTACT: Richard Turner, Portland, OR at phone number (503) 736-4737 or e-mail: rich.turner@noaa.gov.

SUPPLEMENTARY INFORMATION: This notice is relevant to the Columbia River chum salmon (Oncorhynchus keta), Lower Columbia River chinook salmon (O. tshawytscha), Lower Columbia River steelhead (O. mykiss), Upper Willamette River chinook salmon (O. tshawytscha), and Middle Columbia River steelhead (O. mykiss) Evolutionarily Significant Units.

Background

The USFWS has submitted to NMFS 10 HGMPs for artificial propagation programs that potentially could affect salmon and steelhead listed under the ESA (Table 1).

Table 1. Hatchery and Genetic Management Plans and Lead Management Agencies.
Hatchery and Genetic Management Plan | Lead Agencies
Little White Salmon/Willard NFH Complex Coho Salmon | USFWS
Little White Salmon/Willard NFH Complex Spring Chinook Salmon | USFWS
Little White Salmon/Willard NFH Complex Upriver Bright Fall Chinook Salmon ENT>USFWS
Carson NFH Spring Chinook Salmon | USFWS
Spring Creek NFH Tule Fall Chinook Salmon | USFWS
Eagle Creek NFH Coho Salmon | USFWS
Eagle Creek NFH Winter Steelhead | USFWS
Warm Springs NFH Warm Springs River Spring Chinook Salmon | USFWS
Touchet River Endemic Summer Steelhead | WDFW/USFWS
Walla Walla River Summer Steelhead Lyons Ferry Hatchery Stock | WDFW/USFWS

As specified in the July 10, 2000, ESA 4(d) rule for salmon and steelhead (65 FR 42422), NMFS may approve an HGMP if it meets criteria set forth in § 223.203 (b)(5)(i)(A) through (K). Prior to final approval of an HGMP, NMFS must publish notification announcing its availability for public review and comment. The notice of availability of the ten USFWS HGMPs was published on January 14, 2003 (68 FR 1819) and closed on February 13, 2003.

National Environmental Policy Act requires Federal agencies to conduct an environmental analysis of their proposed actions to determine if the actions may affect the human environment. The proposed action is to approve the 10 HGMPs submitted by the USFWS. The proposed hatchery programs would propagate and release approximately 25.2 million salmon and steelhead in the Columbia River basin. In the draft EA currently available for public comment, NMFS considered the effects of this action on the physical, biological, and socioeconomic environments. NMFS is seeking public input on the scope of the required NEPA analysis, including the range of reasonable alternatives and associated impacts of any alternatives.

Dated: May 6, 2003.
Barbara Schroeder,
Acting Chief, Endangered Species Division, Office of Protected Resources, National Marine Fisheries Service.

[FR Doc. 03-11740 Filed 5-9-03; 8:45 am]

BILLING CODE 3510-22-S